DEPARTMENT OF ENERGY

Federal Energy Regulatory Commission

[Docket No. RP09-487-003]

High Island Offshore System, L.L.C.; Notice of Compliance Filing

Take notice that on May 16, 2011, High Island Offshore System, L.L.C. (HIOS) filed to comply with the Commission's “Order Approving, as Modified, Uncontested Settlement” issued on April 29, 2011. (135 FERC ¶ 61,105 (2011)). HIOS states it is submitting a revised Stipulation and Agreement as directed, as more fully described in the petition.

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Protest Date: 5 p.m. Eastern Time on Thursday, June 2, 2011.

Dated: May 26, 2011.
Kimberly D. Bose,
Secretary.

[FR Doc. 2011-13679 Filed 6-1-11; 8:45 am]

BILLING CODE 6717-01-P